DEPARTMENT OF HEALTH AND HUMAN SERVICES

Centers for Disease Control and Prevention

[30 Day-08-0706]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

National Program of Cancer Registries Program Evaluation Instrument (NPCR-PEI)—Revision—National Center for Chronic Disease Prevention and Health Promotion (NCCDPHP), Centers for Disease Control and Prevention (CDC).

Background and Brief Description

CDC is responsible for administering and monitoring the National Program of Cancer Registries (NPCR). As of 2008, CDC supports 45 states, two territories, the District of Columbia, and the Pacific Island Jurisdictions' unified Central Cancer Registry (CCR) for population-based cancer registries. CCRs are the foundation of cancer prevention and control, providing information from reporting jurisdictions to ensure that high-quality and timely cancer surveillance data are available to CDC.

CDC has collected program activity information from NPCR-funded registries on an annual basis. Beginning in 2009, CDC proposes to change the data collection frequency from annual to every other year, with data collection occurring only in odd-numbered years. Information will be collected electronically in 2009 and 2011 using the Web-based Program Evaluation Instrument (NPCR-PEI). The information will be used to evaluate various attributes of the registries funded by NPCR, monitor NPCR registries' progress towards program standards and objectives, compare an individual NPCR registry's progress towards standards with national program standards, and disseminate information about the NPCR. Continued clearance for a three-year period is requested.

There are no costs to respondents except their time. The total estimated annualized burden hours are 50.

Estimated Annualized Burden Hours
Type of respondents | Number of respondents | Number of responses per respondent | Average burden per response (in hours)
NPCR Grantees | 33 | 1 | 1.5

Dated: July 15, 2008.
Maryam I. Daneshvar,
Acting Reports Clearance Officer, Centers for Disease Control and Prevention.

[FR Doc. E8-16937 Filed 7-23-08; 8:45 am]

BILLING CODE 4163-18-P